DEPARTMENT OF LABOR

Employment and Training Administration

Job Corps: Preliminary Finding of No Significant Impact (FONSI) for the Proposed Job Corps Training Center Located at 4000 Airport Road Approximately Two Miles Northwest of Riverton, WY

AGENCY: Employment and Training Administration, Labor.

ACTION: Preliminary Finding of No Significant Impact (FONSI) for the proposed Job Corps Training Center to be Located at 4000 Airport Road Approximately Two Miles Northwest of Riverton, WY.

SUMMARY: Pursuant to the Council on Environmental Quality Regulations (40 CFR part 1500-08) implementing procedural provisions of the National Environmental Policy Act (NEPA), the Department of Labor, Employment and Training Administration, Office of Job Corps, in accordance with 29 CFR 11.11(d), gives notice that an Environmental Assessment (EA) has been prepared for a proposed new Job Corps Training Center to be located in Riverton, Wyoming, and that the proposed plan for a new Job Corps Training Center will have no significant environmental impact. This Preliminary Finding of No Significant Impact (FONSI) will be made available for public review and comment for a period of 30 days.

DATES: Comments must be submitted by January 9, 2008.

FOR FURTHER INFORMATION CONTACT: Copies of the EA are available to interested parties by contacting Michael F. O'Malley, Unit Chief of Facilities, U.S. Department of Labor, Office of the Secretary, 200 Constitution Avenue, NW., Room N-4460, Washington, DC 20210, (202) 693-3108 (this is not a toll-free number).

SUPPLEMENTARY INFORMATION: This Environmental Assessment (EA) summary addresses the proposed construction of a new Job Corps Training Center in Riverton, Wyoming. The subject property for the proposed Job Corps Training Center is an approximately 124.4-acre undeveloped parcel of land owned by the City of Riverton, Wyoming.

The Job Corps Training Center project would include construction of the academic/vocational training center, residential housing, single parent housing, child care facility, medical/dental facilities, cafeteria, recreation, storage and maintenance areas, administrative support facilities, and site utilities. The new facility will be able to accommodate 250 to 300 residential students and 15 non-residential students.

The Job Corps Training Center will have a positive affect on the Riverton area. This conclusion is based upon the fact the Riverton area has been actively pursuing the Job Corps Training Center by bringing the community together to achieve the goal of the Job Corps Training Center development. This was the sentiment shared by Wind River Reservation, City, County and State officials, when they learned Riverton was selected as a Job Corps Training Center for Wyoming. It is important to note that Wyoming and New Hampshire are the only states that do not currently have a Job Corps Training Center. The city of Riverton has given a 99 year lease for $1/year on the proposed property near Airport Road for the Job Corps Training Center. The Job Corps Training Center may be the largest employer to move into Riverton since Wal-Mart arrived in 1990. Support was also provided by Fremont County School District No. 25 and the school district will be a partner in the project.

The proposed project will not have any significant adverse impact on any natural systems or resources. No state or federal threatened or endangered species (proposed or listed) have been identified on the subject property.

The Job Corps Center construction will not affect any existing historic structures, as there are no historic or archeologically sensitive areas on the proposed property parcel.

Air quality and noise levels should not be affected by the proposed development project. Due to the nature of the proposed project, it would not be a significant source of air pollutants or additional noise, except possibly during construction of the facility. All construction activities will be conducted in accordance with applicable noise and air pollution regulations, and all pollution sources will be permitted in accordance with applicable pollution control regulations.

The development of the Job Corps Training Center will result in an increase in vehicular traffic, primarily because of staff required for the center and public transportation for the Job Corps Training Center students. The Job Corps Training Center development anticipated street entrance on Airport Road in Riverton does not currently have an operating traffic signal utilized for traffic control, and this may be required when the Job Corps Training Center is constructed. New primary access will also be required because the Job Corps Training Center is currently undeveloped property.

The Job Corps Training Center will not degrade existing water ways. The new Job Corps Training Center will be in an arid area of Wyoming with minimal rainfall. The development of the parcel will involve construction of potable water, sanitary sewer and storm sewer lines. The new buildings to be constructed for the proposed Job Corps Center will be tied in to the existing Riverton, Wyoming Department of Public Works Water and Sewer distribution system. The Job Corps Training Center expected contribution to waste water treatment will be well within the capacity of the Riverton Sewage Treatment Plant.

Electric services would be provided by Rocky Mountain Power. Natural gas would be provided by Source Gas, which is delivered through Source Gas pipelines. Telecommunications would be provided by Qwest and Bresnan Communications. This is not expected to create any significant impact to the regional utility infrastructure.

No significant adverse affects to local medical, emergency, fire and police services are anticipated. The primary medical provider is the Riverton Hospital located two miles southeast of the development at 2100 West Sunset Drive in Riverton. The hospital maintains emergency/trauma services and outpatient services for the Riverton area.

The Job Corps Center will have a small medical and dental facility on-site for use by the residents as necessary. Security services at the Job Corps will be provided by the center's security staff. Law enforcement services are provided by the Riverton Police Department located at 816 North Federal Blvd. in Riverton. The Riverton Fire Department is a volunteer department, which runs two local fire stations in the city of Riverton. Forty-seven (47) volunteer fire fighters are available 24 hours a day to provide fire protection and emergency medical services to city residents and businesses.

The proposed project will not have a significant adverse sociological affect on the surrounding community. Similarly, the proposed project will not have a significant adverse affect on demographic and socioeconomic characteristics of the area.

The alternatives considered in the preparation of this FONSI were as follows: (1) No Action; and (2) Continue Project as Proposed. The No Action alternative was not selected. The U.S. Department of Labor's goal of improving the Job Corps Program by improving the learning environment at Job Corps Training Centers would not be met under this alternative. Due to the suitability of the proposed site for establishment of a new Job Corps Training Center, and the absence of any identified significant adverse environmental impacts from locating a Job Corps Training Center on the subject property, the “Continue Project as Proposed” alternative was selected.

Based on the information gathered during the preparation of the EA, no environmental liabilities, current or historical, were found to exist on the proposed Job Corps Training Center Site. The construction of the Job Corps Training Center at 4000 Airport Road in Riverton, Wyoming will not create any significant adverse impacts on the environment.

Dated: December 7, 2007.
Esther R. Johnson,
National Director of Job Corps.

[FR Doc. E7-24036 Filed 12-11-07; 8:45 am]

BILLING CODE 4510-23-P